DEPARTMENT OF HEALTH AND HUMAN SERVICES

Indian Health Service

Office of Urban Indian Health Programs; Announcement Type: Targeted Solicitation

Funding Opportunity Number: HHS-2008-JHS-UIHP-0001.

Catalogue of Federal Domestic Assistance Number: 93.193.

Key Dates:

Application Deadline Date: May 21, 2008.

Review Date: June 13, 2008.

Earliest Anticipated Start Date: July 1, 2008.

I. Funding Opportunity Description

The Indian Health Service (IHS), Office of Urban Indian Health Programs (OUIHP) announces a targeted solicitation for the 4-in-1 Title V grants to make health care services more accessible for American Indians and Alaska Natives (AI/AN) residing in urban areas. This program is authorized under the authority of the Snyder Act and 25 U.S.C. 1652 and 1653 and Title V of the Indian Health Care Improvement Act (IHCIA), Public Law 94-437, as amended. This program is described at 93.193 in the Catalog of Federal Domestic Assistance (CFDA).

Under this grant opportunity, the IHS proposes to award grants to 34 Urban Indian organizations that have existing IHS contracts awarded in accordance with 25 U.S.C. 1653(c)(d)(e)(f). This grant announcement seeks to ensure the highest possible health status for AI/ANs. Funding will be used to continue the 34 Urban Indian organizations' successful implementation of the Department of Health and Human Services (HHS) priorities, GPRA reporting, collaborative activities with the Veterans Health Administration (VA), and four health programs that make health services more accessible to AI/ANs living in urban areas. The four health services programs are: (1) Health Promotion/Disease Prevention (HP/DP) services, (2) Immunizations, and Behavioral Health Services consisting of (3) Alcohol/Substance Abuse services, and (4) Mental Health Prevention and Treatment services. These programs are integral components of the IHS chronic care initiative and the strategic objective focused on improving safety, quality, affordability, and accessibility of health care.

II. Award Information:

Type of Award: Targeted Solicitation Grants.

Estimated Funds Available: The IHS intends to commit approximately $8.5 million each year. The total project period is 2 years and 9 months in duration. The award that is issued under this announcement is subject to availability of funds.

Anticipated Number of Awards: 34 grants.

Project Period: July 1, 2008-March 31, 2011. The 2008-2009 budget period will run nine months, July 1, 2008 through March 31, 2009. The 2009-2010 and 2010-2011 budget periods will run 12 months each.

Award Amount: FY 2008 amounts for the 9-month budget period July 1, 2008 through March 31, 2009 are identified in the application transmittal letter. All future support is subject to the availability of funds.

III. Eligibility Information

1. Eligible Applicants: Urban Indian organizations, as defined by 25 U.S.C. 1603(h).

2. Cost Sharing or matching—This program does not require matching funds or cost sharing.

IV. Application and Submission Information

1. An applicant package may be found in Grants.gov (http://www.grants.gov) or at: http://www.ihs.gov/NonMedicalPrograms/gogp/gogp_funding.asp.

Information regarding the electronic application process may be directed to Michelle G. Bulls, Chief Grants Management Officer, Director, Division of Grants Policy, at (301) 443-6290.

2. Content and Form of Application Submission

• Be single spaced.

• Be typewritten.

• Have consecutively numbered pages.

• Use black type not smaller than 12 characters per one inch.

• Contain a narrative that does not exceed 55 typed pages that includes the other submission requirements below. The 55 page narrative does not include the work plan, standard forms, table of contents, budget, budget justifications, narratives, and/or other appendix items.

Public Policy Requirements: All Federal-wide public policies apply to IHS grants with the exception of the Lobbying and Discrimination public policy.

3. Submission Dates and Times

The application from each Urban Indian Health Organization (UIHO) must be submitted electronically through Grants.gov by 11:59 p.m. Eastern Standard Time (EST) on May 21, 2008.

If technical challenges arise and the UIHO is unable to successfully complete the electronic application process, each organization must contact Michelle G. Bulls, Grants Policy Staff, fifteen days prior to the application deadline and advise of the difficulties that they are experiencing. Each organization must obtain prior approval, in writing (e-mails are acceptable), from Ms. Bulls allowing the paper submission. If submission of a paper application is requested and approved, the original and two copies must be sent to the appropriate grants contact that is listed in Section IV.1 above. Applications not submitted through Grants.gov, without an approved waiver, may be returned to the organizations without review or consideration.

A late application will be returned to the organization without review or consideration.

4. Intergovernmental Review: Executive Order 12372 requiring intergovernmental review is not applicable to this program.

5. Funding Restrictions:

A. Pre-award costs are allowable pending prior approval from the awarding agency. However, in accordance with 45 CFR Part 74, all pre-award costs are incurred at the recipient's risk. The awarding office is under no obligation to reimburse such costs if for any reason any of the UIHO do not receive an award or if the award to the recipient is less than anticipated.

B. The available funds are inclusive of direct and appropriate indirect costs.

C. Only one grant supplement will be awarded to each organization.

D. IHS will acknowledge receipt of the application.

6. Other Submission Requirements:

Electronic Submission—Each UIHO must submit through Grants.gov. However, should any technical challenges arise regarding the submission, please contact Grants.gov Customer Support at 1-800-518-4726 or support@grants.gov. The Contact Center hours of operation are Monday-Friday from 7 a.m. to 9 p.m. EST. If you require additional assistance please call (301) 443-6290, and identify the need for assistance regarding your Grants.gov application. Your call will be transferred to the appropriate grants staff member. Each organization must seek assistance at least fifteen days prior to the application deadline. If each organization doesn't adhere to the timelines for Central Contractor Registry (CCR), Grants.gov registration and request timely assistance with technical issues, the paper application submission may not be granted. To submit an application electronically, please use the Grants.gov Web site. Download a copy of the application package on the Grants.gov Web site, complete it offline and then upload and submit the application via the Grants.gov site. You may not e-mail an electronic copy of a grant application to IHS.

Please be reminded of the following:

• Under the new IHS application submission requirements, paper applications are not the preferred method. However, if any UIHO has technical problems submitting the application on-line, please contact Grants.gov Customer Support directly at: http://www.grants.gov/CustomerSupport.

• Upon contacting Grants.gov, obtain a Grants.gov tracking number as proof of contact. The tracking number is helpful if there are technical issues that cannot be resolved and a waiver request from Grants Policy Staff (GPS) must be obtained. If any of the organizations are still unable to successfully submit the application on-line, please contact Michelle G. Bulls, GPS, at (301) 443-6290 at least fifteen days prior to the application deadline to advise her of the difficulties you have experienced.

• If it is determined that a formal waiver is necessary, each organization must submit a request, in writing (e-mails are acceptable), to Michelle.Bulls@ihs.gov providing a justification for the need to deviate from the standard electronic submission process. Upon receipt of approval, a hard-copy application package must be downloaded from Grants.gov, and sent directly to the Division of Grants Operations (DGO), 801 Thompson Avenue, TMP 360, Rockville, MD 20852 by May 1,2008.

• Upon entering the Grants.gov Web site, there is information available that outlines the requirements to each UIHO regarding electronic submission of application and hours of operation. We strongly encourage each organization to not wait until the deadline date to begin the application process as the registration process for CCR and Grants.gov could take up to fifteen working days.

• To use Grants.gov, each UIHO must obtain a Data Universal Numbering System (DUNS) and register in the CCR. Each organization should allow a minimum often working days to complete CCR registration. See below on how to apply.

• Each organization must submit all documents electronically, including all information typically included on the SF-424 and all necessary assurances and certifications.

• Please use the optional attachment feature in Grants.gov to attach additional documentation that may be requested by IHS.

• Each organization must comply with any page limitation requirements described in the program announcement.

• After you electronically submit your application, you will receive an automatic acknowledgment from Grants.gov that contains a Grants.gov tracking number. The DGO will retrieve your application from Grants.gov. The DGO will notify each organization that the application has been received.

• You may access the electronic application for this program on Grants.gov.

• You may search for the downloadable application package using either the CFDA number or the Funding Opportunity Number. Both numbers are identified in the heading of this announcement.

• To receive an application package, each UIHO must provide the Funding Opportunity Number: HHS-2008-IHS-UIHP-0001.

E-mail applications will not be accepted under this announcement.

DUNS Number

Applicants are required to have a DUNS number to apply for a grant or cooperative agreement from the Federal Government. The DUNS number is a nine-digit identification number, which uniquely identifies business entities. Obtaining a DUNS number is easy and there is no charge. To obtain a DUNS number, access http://www.dunandbradstreet.com or call 1-866-705-5711. Interested parties may wish to obtain their DUNS number by phone to expedite the process.

Applications submitted electronically must also be registered with the CCR. A DUNS number is required before CCR registration can be completed. Many organizations may already have a DUNS number. Please use the number listed above to investigate whether or not your organization has a DUNS number.

Registration with the CCR is free of charge. Applicants may register by calling 1-888-227-2423. Please review and complete the CCR “Registration Worksheet” located on http://www.grants.gov/CCR_Register.

Sections V and VI which contain more detailed information regarding these registration processes can be found at Grants.gov.

VII. Agency Contacts

For program-related information: Phyllis S. Wolfe, Director, Office of Urban Indian Health Programs, 801 Thompson Avenue, Suite 200, Rockville, Maryland 20852, (301) 443-4680 or phyllis.wolfe@ihs.gov.

For general information regarding this announcement: Danielle Steward, Health Systems Specialist, Office of Urban Indian Health Programs, 801 Thompson Avenue, Room 200, Rockville, MD 20852, (301) 443-4680 or danielle.steward@ihs.gov.

For specific grant-related and business management information: Pallop Chareonvootitam, Grants Management Specialist, 801 Thompson Avenue, TMP 360, Rockville, MD 20852, (301) 443-5204 or pallop.chareonvootitam@ihs.gov.

Dated: May 1, 2008.
Robert G. McSwain,
Acting Director, Indian Health Service.

[FR Doc. E8-10218 Filed 5-8-08; 8:45 am]

BILLING CODE 4165-16-M